DEPARTMENT OF ENERGY

Federal Energy Regulatory Commission

[Docket No. RP04-62-000]

CenterPoint Energy—Mississippi River Transmission Corporation; Notice of Penalty Revenue Credit Report

November 25, 2003.

Take notice that on November 20, 2003, CenterPoint Energy—Mississippi River Transmission Corporation (MRT) tendered for filing a refund report showing penalty revenues that will be refunded, with interest, to the Customers upon approval by the Commission.

MRT states that copies of its filing have been served upon all of its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protest Date: December 3, 2003.

Magalie R. Salas,
Secretary.

[FR Doc. E3-00426 Filed 12-2-03; 8:45 am]

BILLING CODE 6717-01-P